DEPARTMENT OF TRANSPORTATION

Federal Highway Administration

Notice of Final Federal Agency Actions on US 26: MP 49.20-MP 57.45 Project: Clackamas County, OR

AGENCY: Federal Highway Administration (FHWA), Department of Transportation (DOT).

ACTION: Notice of Limitations on Claims for Judicial Review of Actions by FHWA, United States Army Corps of Engineers (USACE), United States Forest Service (USFS), United States Fish & Wildlife Service (USF&WS), and other Federal agencies.

SUMMARY: This notice announces final environmental actions taken by the FHWA, USACE, USFS, USF&WS, NMFS and other Federal agencies that are final within the meaning of 23 U.S.C. 139(l)(1). The actions relate to a proposed highway project, US 26: MP 49.20-MP 57.45. This action grants approval for the project.

DATES: By this notice, the FHWA is advising the public of final agency actions subject to 23 U.S.C. 139(l)(1). A claim seeking judicial review of the Federal agency actions on the highway project will be barred unless the claim is filed on or before March 28, 2014. If the Federal law that authorizes judicial review of a claim provides a time period of less than 150 days for filing such claim, then that shorter time period still applies.

FOR FURTHER INFORMATION CONTACT: For FHWA, Michelle Eraut, Program Development Team Leader, Federal Highway Administration, 530 Center Street NE., Suite 420, Salem, Oregon 97301, Telephone: (503) 587-4716. The US 26: MP 49.20-MP 57.45 categorical exclusion is available upon written request from the Federal Highway Administration at the address shown above. Comments or questions concerning this proposed action and the US 26: MP 49.20-MP 57.45 should be directed to the FHWA at the address provided above. For USACE, Dominic Yballe, Regulatory Project Manager, (503) 808-4392, 333 SW. 1st Avenue, Portland, Oregon 97208-2946. For USFS, Bill Westbrook, Zigzag District Ranger, (503) 622-2001, 70220 E. Highway 26, Zigzag, Oregon 97049. For USF&WS, Kevin Maurice, (503) 231-6179, Wildlife Biologist, 2600 SE. 98th Avenue, Suite 100, Portland, Oregon 97266.

SUPPLEMENTARY INFORMATION: Notice is hereby given that the FHWA has taken final agency action subject to 23 U.S.C. 139(l)(1) by issuing approval for the following highway project in the State of Oregon: US 26: MP 49.20-MP 57.45. The project will improve safety along US 26 between Mile Point 49.2 and Mile Point 57.45 by enlarging an existing rock fall catchment area and widening the highway to extend existing passing lanes and install new median barrier. The project will preserve the existing pavement by removing the top 2 to 3 inches of the existing asphalt concrete pavement, recycling it, and repaving it back to the original grade line of the roadway. The actions by the Federal agencies and the laws under which such actions were taken are described in the categorical exclusion issued on August 22, 2013. The categorical exclusion is available by contacting the FHWA at the address provided above. The USACE permit (USACE Permit NWP-2012-510, issued April 5, 2013) is available by contacting USACE at the address provided above. The USFS Finding of Consistency with the Forest Plan issued on July 3, 2013, is available by contacting the USFS at the address provided above. The USF&WS Not Likely to Adversely Affect letter for Northern Spotted Owl issued on June 13, 2013, is available by contacting the USF&WS at the address above. This notice applies to all Federal agency decisions as of the issuance date of this notice and all laws under which such actions were taken, including but not limited to:

1. General: National Environmental Policy Act (NEPA) [42 U.S.C 4321-4347]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; Section 6(f) of the Land and Water Conservation Fund Act (LWCF) [16 U.S.C. 460l-4—460l-11].

4. Wildlife: Section 7 of the Endangered Species Act [16 U.S.C. 1531-1544]; Fish and Wildlife Coordination Act [16 U.S.C. 661-667 (e)]; Migratory Bird Treaty Act [16 U.S.C. 703-712].

5. Historic and Cultural Resources: Section 106 of the National Historic Preservation Act of 1966, as amended [16 U.S.C. 470(f) et seq.]; Archeological Resources Protection Act of 1977 [16 U.S.C. 470aa-mm]; Archeological and Historic Preservation Act [16 U.S.C. 469-469(c)]; Native American Grave Protection and Repatriation Act (NAGPRA) [25 U.S.C. 3001-3013].

6. Social and Economic: Title VI of the Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1376]; Wetlands Mitigation [23 U.S.C. 103(b)(6)(M) and 133(b)(11)].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites, E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. § 139(l)(1)

Issued On: October 9, 2013.
Phillip A. Ditzler,
Division Administrator, Salem, Oregon.

[FR Doc. 2013-24960 Filed 10-28-13; 8:45 am]

BILLING CODE 4910-22-P